DEPARTMENT OF VETERANS AFFAIRS

Rental and Utility Assistance for Certain Low-Income Veteran Families

AGENCY: Department of Veterans Affairs (VA).

ACTION: Notice.

SUMMARY: The Supportive Services for Veteran Families (SSVF) Program has enabled grantees to augment available housing options for homeless Veterans in high rent-burden communities by increasing rental assistance for up to 2 years before recertification. This notice will establish locations where the SSVF grantees can place Veterans in housing with this rental subsidy.

DATES: SSVF grantees can place Veterans in housing with the rental subsidy described in title 38 CFR 62.34(a)(8) in the newly described areas effective the date of this Notice publication date.

FOR FURTHER INFORMATION CONTACT: Mr. John Kuhn, Homeless Program Office, Supportive Services for Veteran Families Program Office, 810 Vermont Avenue NW, Washington, DC 20420; 202-632-8596. (This is not a toll-free number.)

SUPPLEMENTARY INFORMATION: In a document published in the Federal Register on August 28, 2019, VA published a final rule, which revised its regulations that govern the SSVF Program, which is authorized under 38 U.S.C. 2044, 84 FR 45074. This rule, which amended 38 CFR 62.34(a)(6) and (8), enables SSVF grantees to provide rental assistance where the limited availability of affordable housing makes it difficult to reduce a community's population of homeless Veterans. The lack of affordable housing in the United States has been widely documented with its effect becoming more pronounced during the coronavirus (COVID-19) pandemic. The National Low-Income Housing Coalition maintains a detailed database that shows there is a shortage of affordable housing across every state. As the lack of affordable housing is a national crisis, VA is expanding access to the SSVF resources described in sections 62.34(a)(6) and (8) to all counties and equivalents within the 50 United States (U.S.); the District of Columbia; Puerto Rico; the U.S. Virgin Islands; and Guam. Through these subsidies, the pool of available housing can be expanded as program participants have access to a broader rental market. Section 62.34(a)(8) states that extremely low-income Veteran families and very low-income Veteran families who meet the criteria of section 62.11 may be eligible to receive a rental subsidy for a 2-year period without recertification. Section 62.34(a)(8) further states that the applicable counties will be published annually in the Federal Register. As stated in the notice, a family must live in one of these applicable counties to be eligible for this subsidy. The counties will be chosen based on the cost and availability of affordable housing for both individuals and families within that county.

On September 28, 2020, VA published the applicable counties for fiscal year (FY) 2021. As the COVID-19 health emergency has significantly increased the population of Veteran families at-risk of homelessness, SSVF is expanding the applicable counties in FY 2021 to include every county and equivalent in the 50 United States; the District of Columbia; Puerto Rico; the U.S. Virgin Islands; and Guam. This expansion will enable all eligible Veteran families to access this housing option.

Locations: This rental subsidy will be available in all counties and equivalents within the 50 United States; the District of Columbia; Puerto Rico; the U.S. Virgin Islands, and Guam.

Signing Authority

Denis McDonough, Secretary of Veterans Affairs, approved this document on July 30, 2021, and authorized the undersigned to sign and submit the document to the Office of the Federal Register for publication electronically as an official document of the Department of Veterans Affairs.

Luvenia Potts,
Regulation Development Coordinator Office of Regulation Policy & Management, Office of the Secretary, Department of Veterans Affairs.

[FR Doc. 2021-16723 Filed 8-4-21; 8:45 am]

BILLING CODE 8320-01-P